DEPARTMENT OF COMMERCE

Foreign-Trade Zones Board

[B-44-2024]

Foreign-Trade Zone (FTZ) 61; Authorization of Production Activity; Boehringer Ingelheim Animal Health Puerto Rico LLC; (Animal Health Products); Barceloneta, Puerto Rico

On August 8, 2024, Boehringer Ingelheim Animal Health Puerto Rico LLC submitted a notification of proposed production activity to the FTZ Board for its facility within Subzone 61AC, in Barceloneta, Puerto Rico.

The notification was processed in accordance with the regulations of the FTZ Board (15 CFR part 400), including notice in the Federal Register inviting public comment (89 FR 66032, August 14, 2024). On December 6, 2024, the applicant was notified of the FTZ Board's decision that no further review of the activity is warranted at this time. The production activity described in the notification was authorized, subject to the FTZ Act and the FTZ Board's regulations, including section 400.14.

Dated: December 6, 2024.
Elizabeth Whiteman,
Executive Secretary.

[FR Doc. 2024-29086 Filed 12-10-24; 8:45 am]

BILLING CODE 3510-DS-P